DEPARTMENT OF HOMELAND SECURITY

Coast Guard

33 CFR Part 117

[CGD01-06-020]

Drawbridge Operation Regulations; Connecticut River, Old Lyme, CT

AGENCY: Coast Guard, DHS.

ACTION: Notice of temporary deviation from regulations.

SUMMARY: The Commander, First Coast Guard District, has issued a temporary deviation from the regulation governing the operation of the AMTRAK Old Saybrook-Old Lyme Bridge across the Connecticut River at mile 3.4, between Old Saybrook and Old Lyme, Connecticut. This temporary deviation requires the bridge to operate on a fixed opening schedule from March 8, 2006 through April 15, 2006, and also allows the bridge to remain in the closed position for 72 hours, from 6 a.m. on Saturday, March 11, 2006 through 6 a.m. on Tuesday, March 14, 2006. The draw shall open on signal for commercial vessels, except during the 72 hour bridge closure period, after at least a four-hour advance notice is given. This deviation is necessary to facilitate urgent bridge maintenance.

DATES: This deviation is effective from March 8, 2006 through April 15, 2006.

ADDRESSES: Materials referred to in this document are available for inspection or copying at the First Coast Guard District, Bridge Branch Office, One South Street, New York, New York, 10004, between 7 a.m. and 4 p.m., Monday through Friday, except Federal holidays. The telephone number is (212) 668-7165. The First Coast Guard District Bridge Branch Office maintains the public docket for this temporary deviation.

FOR FURTHER INFORMATION CONTACT: Judy Leung-Yee, Project Officer, First Coast Guard District, at (212) 668-7165.

SUPPLEMENTARY INFORMATION: The AMTRAK Old Saybrook-Old Lyme Bridge, across the Connecticut River at mile 3.4, has a vertical clearance in the closed position of 19 feet at mean high water and 22 feet at mean low water. The existing regulations are listed at 33 CFR 117.205(b).

On February 3, 2006, the Coast Guard issued a temporary deviation from the drawbridge operation regulations governing the operation of the AMTRAK Old Saybrook-Old Lyme Bridge to facilitate scheduled electrical and mechanical bridge maintenance.

On February 24, 2006, during the course of the above scheduled bridge maintenance the bridge owner discovered additional necessary vital repairs, faulty bridge electrical cables, and a worn pinion bearing that must be replaced as soon as possible to assure the continued safe and reliable operation of the bridge.

As a result of the above information, the owner of the bridge, National Railroad Passenger Corporation (AMTRAK), has requested a temporary deviation to facilitate urgent bridge repairs, replacement of the bridge electrical cables and the pinion bearing.

In order to perform the above repairs the bridge must open on a fixed schedule in order to facilitate the electrical cable repair and must remain in the closed position for 72 hours to replace the worn pinion bearing.

Under this temporary deviation the AMTRAK Old Saybrook-Old Lyme Bridge across the Connecticut River at mile 3.4, shall open on signal Monday through Friday at 8:15 a.m., 12:15 p.m., and 2:15 p.m., and on Saturday and Sunday at 8 a.m., 10 a.m., 1 p.m., 2:15 p.m., and 4 p.m.

In addition, the draw need not open for the passage of vessel traffic for 72 hours, from 6 a.m. on Saturday, March 11, 2006 through 6 a.m. on Tuesday, March 14, 2006.

The draw shall open on signal for commercial vessels, except during the 72 hour closed period, if at least a four-hour advance notice is given by calling the number posted at the bridge.

The operation of the CONRAIL Middletown-Portland Bridge at mile 32.0, across the Connecticut River, which is also listed under 33 CFR 117.205(b), will not be effected by this temporary deviation.

In accordance with 33 CFR 117.35(b), these vital, unscheduled repairs should be performed without delay in order to return the bridge to normal operation as soon as possible.

This deviation from the operating regulations is authorized under 33 CFR 117.35.

Dated: March 6, 2006.
Gary Kassof,
Bridge Program Manager, First Coast Guard District.

[FR Doc. 06-2445 Filed 3-14-06; 8:45 am]

BILLING CODE 4910-15-P